SECURITIES AND EXCHANGE COMMISSION

Sunshine Act Meeting; Additional Item

FEDERAL REGISTER CITATION OF PREVIOUS ANNOUNCEMENT: 81 FR 78678 (November 8, 2016).

PREVIOUSLY ANNOUNCED TIME AND DATE OF THE MEETING: Thursday, November 10, 2016 at 2 p.m.

CHANGES IN THE MEETING: The following matters will also be considered during the 2 p.m. closed meeting scheduled for Thursday, November 10, 2016: Settlement of injunctive actions.

CONTACT PERSON FOR MORE INFORMATION: For further information and to ascertain what, if any, matters have been added, deleted or postponed, please contact the Office of the Secretary at (202) 551-5400.

Dated: November 4, 2016.
Brent J. Fields,
Secretary.

[FR Doc. 2016-27147 Filed 11-8-16; 11:15 am]

BILLING CODE 8011-01-P